DEPARTMENT OF HOMELAND SECURITY

U.S. Citizenship and Immigration Services

[CIS No. 2593-16; DHS Docket No. USCIS-2015-USCIS-2013-0006]

RIN 1615-ZB62

Extension of the Designation of Somalia for Temporary Protected Status

AGENCY: U.S. Citizenship and Immigration Services, Department of Homeland Security.

ACTION: Notice.

SUMMARY: The Department of Homeland Security (DHS) announces that the Secretary of Homeland Security (Secretary) is extending the designation of Somalia for Temporary Protected Status (TPS) for a period of 18 months, effective March 18, 2017 through September 17, 2018. This extension allows eligible Somali nationals (and aliens having no nationality who last habitually resided in Somalia) to retain TPS through September 17, 2018, so long as they otherwise continue to meet the eligibility requirements for TPS. The Secretary has determined that an extension is warranted because conditions in Somalia supporting its designation for TPS continue to be met. Through this Notice, DHS also sets forth procedures necessary for nationals of Somalia (or aliens having no nationality who last habitually resided in Somalia) to re-register for TPS and to apply for renewal of their Employment Authorization Documents (EAD) with U.S. Citizenship and Immigration Services (USCIS).

DATES: The 18-month extension of the TPS designation of Somalia is effective as of March 18, 2017, and will remain in effect through September 17, 2018. The 60-day re-registration period runs from January 17, 2017 through March 20, 2017. Note: It is important for re-registrants to timely re-register during this 60-day period and not to wait until their EADs expire.

FOR FURTHER INFORMATION CONTACT:

• For further information on TPS, including guidance on the application process and additional information on eligibility, please visit the USCIS TPS Web page at http://www.uscis.gov/tps. You can find specific information about the extension of Somalia's designation for TPS by selecting “Somalia” from the menu on the left side of the TPS Web page.

• You can also contact Guillermo Roman-Riefkohl, TPS Program Manager, Waivers and Temporary Services Branch, Service Center Operations Directorate, U.S. Citizenship and Immigration Services, Department of Homeland Security, 20 Massachusetts Avenue NW., Washington, DC 20529-2060; or by phone at 202-272-1533 (this is not a toll-free number).

Note: The phone number provided here is solely for questions regarding this TPS Notice. It is not for individual case status inquires.

• Applicants seeking information about the status of their individual cases can check Case Status Online, available at the USCIS Web site at http://www.uscis.gov, or call the USCIS National Customer Service Center at 800-375-5283 (TTY 800-767-1833). Service is available in English and Spanish.

• Further information will also be available at local USCIS offices upon publication of this Notice.

SUPPLEMENTARY INFORMATION:

Table of Abbreviations

BIA—Board of Immigration Appeals

DHS—Department of Homeland Security

EAD—Employment Authorization Document

FNC—Final Nonconfirmation

Government—U.S. Government

IJ—Immigration Judge

INA—Immigration and Nationality Act

OSC—U.S. Department of Justice, Office of Special Counsel for Immigration-Related Unfair Employment Practices

SAVE—USCIS Systematic Alien Verification for Entitlements Program

Secretary—Secretary of Homeland Security

TNC—Tentative Nonconfirmation

TPS—Temporary Protected Status

TTY—Text Telephone

USCIS—U.S. Citizenship and Immigration Services

What is Temporary Protected Status (TPS)?

• TPS is a temporary immigration status granted to eligible nationals of a country designated for TPS under the Immigration and Nationality Act (INA), or to eligible aliens without nationality who last habitually resided in the designated country.

• During the TPS designation period, TPS beneficiaries are eligible to remain in the United States, may not be removed, and are authorized to work and obtain EADs, so long as they continue to meet the requirements of TPS.

• TPS beneficiaries may be granted travel authorization as a matter of discretion.

• The granting of TPS does not result in or lead to lawful permanent resident status.

• When the Secretary terminates a country's TPS designation through a separate Federal Register notice, beneficiaries return to the same immigration status they maintained before TPS, if any (unless that status has since expired or been terminated), or to any other lawfully obtained immigration status they received while registered for TPS.

When and why was Somalia designated for TPS?

On September 16, 1991, the Attorney General designated Somalia for TPS based on extraordinary and temporary conditions. See 56 FR 46804 (Sept. 16, 1991). The initial designation was extended nine times based on determinations that the conditions warranting the designation continued to be met. On September 4, 2001, the Attorney General extended Somalia's TPS designation for a tenth time and redesignated Somalia for TPS. See 66 FR 46288 (Sept. 4, 2001). Under the 2001 redesignation, the Attorney General revised the date from which applicants had to show they had been “continuously residing” in and “continuously physically present” in the United States to September 4, 2001. Somalia's TPS designation was subsequently extended nine additional times, including on May 1, 2012, when the Secretary both extended and redesignated Somalia for TPS and added ongoing armed conflict as an additional basis for Somalia's TPS designation. Under the 2012 redesignation, the Secretary revised the “continuous residence” date to May 1, 2012, and the “continuous physical presence” date to September 18, 2012. See 77 FR 25723 (May 1, 2012). This announcement is the third extension of the Somalia designation for TPS since the 2012 extension and redesignation.

What is the effect of this extension of Somalia's designation for TPS?

This extension of Somalia's designation for TPS allows eligible Somali nationals (and aliens having no nationality who last habitually resided in Somalia) who currently hold TPS to retain it through September 17, 2018, so long as they otherwise continue to meet the eligibility requirements for TPS. Current beneficiaries who wish to maintain their TPS should file a re-registration application with USCIS. They may also apply for renewal of their EADs.

Re-registration is limited to persons who have previously registered for TPS under the designation of Somalia and whose applications have been granted. Certain nationals of Somalia (or aliens having no nationality who last habitually resided in Somalia) who have not previously applied for TPS may be eligible to apply under the late initial registration provisions, if they meet: (1) At least one of the late initial filing criteria; and (2) all TPS eligibility criteria (including continuous residence in the United States since May 1, 2012, and continuous physical presence in the United States since September 18, 2012).

For individuals who have already been granted TPS under Somalia's designation, the 60-day re-registration period runs from January 17, 2017 through March 20, 2017. USCIS will issue new EADs with a September 17, 2018 expiration date to eligible Somalia TPS beneficiaries who timely re-register and apply for EADs under this extension. Given the timeframes involved with processing TPS re-registration applications, DHS recognizes that not all re-registrants will receive new EADs before their current EADs expire on March 17, 2017. Accordingly, through this Notice, DHS automatically extends the validity of EADs issued under the TPS designation of Somalia for 6 months, through September 17, 2017, and explains how TPS beneficiaries and their employers may determine which EADs are automatically extended and their impact on the Employment Eligibility Verification (Form I-9) and E-Verify processes.

What authority does the Secretary have to extend the designation of Somalia for TPS?

Section 244(b)(1) of the INA, 8 U.S.C. 1254a(b)(1), authorizes the Secretary, after consultation with appropriate U.S. Government (Government) agencies, to designate a foreign state (or part thereof) for TPS if the Secretary finds that certain country conditions exist.¹ Following the designation of a foreign state for TPS, the Secretary may then grant TPS to eligible nationals of that foreign state (or eligible aliens having no nationality who last habitually resided in that state). See INA section 244(a)(1)(A), 8 U.S.C. 1254a(a)(1)(A). Applicants must demonstrate that they satisfy all eligibility criteria, including that they have been “continuously physically present” in the United States since the effective date of the designation, which is either the date of the Federal Register notice announcing the designation or such later date as the Secretary may determine, and that they have “continuously resided” in the United States since such date as the Secretary may designate. See INA sections 244(a)(1)(A), (b)(2)(A), (c)(1)(A)(i-ii); 8 U.S.C. 1254a(a)(1)(A), (b)(2)(A), (c)(1)(A)(i-ii).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

Why is the Secretary extending the TPS designation for Somalia through September 17, 2018?

DHS, in consultation with the Department of State, has conducted a thorough review of conditions in Somalia. Based on this review, the Secretary has determined that an 18-month extension of Somalia's designation for TPS is warranted because the conditions that supported its 2012 redesignation—(1) ongoing armed conflict and (2) extraordinary and temporary conditions that prevent Somali nationals from returning to Somalia in safety—continue to exist. The Secretary has further determined that permitting eligible Somali nationals to remain temporarily in the United States is not contrary to the national interest of the United States.

The security situation in Somalia remains fragile and volatile, with much of Somalia in a state of ongoing armed conflict between government forces, clan militia, African Union troops, and al-Shabaab. Al-Shabaab controls large swaths of territory in southern Somalia and conducts frequent asymmetric attacks on military and civilian targets in government-controlled areas. Additionally, some parts of the country not under al-Shabaab control experience high levels of insecurity due to inter- and intra-clan conflict. Members of minority clans are systematically marginalized, abused, and sometimes killed by members of larger clans. Minority clan members have also been largely displaced from their original territories in Somalia, and members of those clans who return to Somalia may find themselves in displaced persons camps. Individuals living in informal camps for displaced persons have been subjected to serious abuses, including rape, physical attacks, restricted access to humanitarian assistance, and clan-based discrimination.

Somalia continues to experience a complex protracted emergency that is one of the worst humanitarian crises in the world. Approximately 5 million people (over 40 percent of the total population of around 11 million) are in need of humanitarian assistance, and there are an estimated 1.1 million internally displaced persons. Malnutrition rates in Somalia are among the highest in the world, with an estimated one million people experiencing acute food insecurity. The 2015-2016 El Niño phenomenon has intensified extensive flooding and severe drought, with the drought conditions contributing to deteriorating food security in northern areas of the country. Non-permanent water sources, such as dams and streams are drying up, driving up the price of water. Vulnerable households are forced to consume unsafe water because they are unable to pay the high cost.

Approximately 3.2 million people in Somalia lack sufficient access to emergency health care services, and about 1.9 million people are at risk of dying of preventable diseases due to lack of access to primary health care services. The maternal mortality rate in Somalia is among the highest in the world. Due to the drought, health facilities have seen an increase in waterborne communicable diseases, as the only available remaining water sources are shared by humans and livestock. Health facilities have also recorded an increased incidence of diseases associated with a lack of water and poor hygiene, namely skin diseases, respiratory infections, and febrile illnesses.

Based upon DHS's review of conditions in Somalia and after consultation with appropriate Government agencies, the Secretary has determined that:

• The conditions that prompted the May 1, 2012 redesignation of Somalia for TPS continue to be met. See INA section 244(b)(1)(A) and (C), (b)(3)(A) and (C); 8 U.S.C. 1254a(b)(1)(A) and (C), (b)(3)(A) and (C).

• There continues to be an ongoing armed conflict in Somalia and, due to such conflict, requiring the return of Somali nationals would pose a serious threat to their safety. See INA section 244(b)(1)(A), 8 U.S.C. 1254a(b)(1)(A).

• There continue to be extraordinary and temporary conditions in Somalia that prevent Somali nationals from returning to Somalia in safety. See INA section 244(b)(1)(C), 8 U.S.C. 1254a(b)(1)(C).

• It is not contrary to the national interest of the United States to permit Somalis (and persons who have no nationality who last habitually resided in Somalia) who meet the eligibility requirements of TPS to remain in the United States temporarily. See INA section 244(b)(1)(C), 8 U.S.C. 1254a(b)(1)(C).

• The designation of Somalia for TPS should be extended for an additional 18-month period from March 18, 2017 through September 17, 2018. See INA section 244(b)(3)(C), 8 U.S.C. 1254a(b)(3)(C).

Based on data from the last re-registration period, DHS expects approximately 250 beneficiaries under Somalia's TPS designation to file for re-registration under the extension.

Notice of Extension of the TPS Designation of Somalia

By the authority vested in me as Secretary under INA section 244, 8 U.S.C. 1254a, I have determined, after consultation with the appropriate Government agencies, that the conditions supporting the most recent designation of Somalia for Temporary Protected Status (TPS) on May 1, 2012 continue to be met. See INA section 244(b)(3)(A), 8 U.S.C. 1254a(b)(3)(A). On the basis of this determination, I am extending the designation of Somalia for TPS for 18 months from March 18, 2017 through September 17, 2018. See INA section 244(b)(1)(A) and (C), (b)(2); 8 U.S.C. 1254a(b)(1)(A) and (C), (b)(2).

Jeh Charles Johnson,
Secretary.

I am currently a Somalia TPS beneficiary. What should I do?

If you are a current TPS beneficiary, then you need to file a re-registration application under the extension if you wish to maintain TPS benefits through September 17, 2018. You must use the Application for Temporary Protected Status (Form I-821) to re-register for TPS. The 60-day open re-registration period will run from January 17, 2017 through March 20, 2017.

Required Application Forms and Application Fees To Register or Re-Register for TPS

To register or re-register for TPS based on the designation of Somalia, an applicant must submit each of the following two applications:

1. Application for Temporary Protected Status (Form I-821).

• If you are filing an application for late initial registration, you must pay the fee for the Application for Temporary Protected Status (Form I-821). See 8 CFR 244.2(f)(2) and 244.6 and information on late initial filing on the USCIS TPS Web page at http://www.uscis.gov/tps.

• If you are filing an application for re-registration, you do not need to pay the fee for the Application for Temporary Protected Status (Form I-821). See 8 CFR 244.17. and

2. Application for Employment Authorization (Form I-765).

• If you are applying for late initial registration and want an EAD, you must pay the fee for the Application for Employment Authorization (Form I-765) only if you are age 14 through 65. No fee for the Application for Employment Authorization (Form I-765) is required if you are under the age of 14 or are 66 and older and applying for late initial registration.

• If you are applying for re-registration, you must pay the fee for the Application for Employment Authorization (Form I-765) only if you want an EAD, regardless of age.

• You do not pay the fee for the Application for Employment Authorization (Form I-765) if you are not requesting an EAD, regardless of whether you are applying for late initial registration or re-registration.

You must submit both completed application forms together. If you are unable to pay for the Application for Employment Authorization (Form I-765) and/or biometric services fee, you may apply for a fee waiver by completing a Request for Fee Waiver (Form I-912) or submit a personal letter requesting a fee waiver, and provide satisfactory supporting documentation. For more information on the application forms and fees for TPS, please visit the USCIS TPS Web page at http://www.uscis.gov/tps. Fees for the Application for Temporary Protected Status (Form I-821), the Application for Employment Authorization (Form I-765), and biometric services are also described in 8 CFR 103.7(b)(1)(i).

Biometric Services Fee

Biometrics (such as fingerprints) are required for all applicants 14 years of age or older. Those applicants must submit a biometric services fee. As previously stated, if you are unable to pay for the biometric services fee, you may apply for a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Re-Filing a Re-Registration TPS Application After Receiving a Denial of a Fee Waiver Request

USCIS urges all re-registering applicants to file as soon as possible within the 60-day re-registration period so that USCIS can process the applications and issue EADs promptly. Filing early will also allow those applicants who may receive denials of their fee waiver requests to have time to re-file their applications before the re-registration deadline. If, however, an applicant receives a denial of his or her fee waiver request and is unable to re-file by the re-registration deadline, the applicant may still re-file his or her application. This situation will be reviewed to determine whether the applicant has established good cause for late re-registration. However, applicants are urged to re-file within 45 days of the date on their USCIS fee waiver denial notice, if at all possible. See INA section 244(c)(3)(C); 8 U.S.C. 1254a(c)(3)(C); 8 CFR 244.17(c). For more information on good cause for late re-registration, visit the USCIS TPS Web page at http://www.uscis.gov/tps. Note: As previously stated, although a re-registering TPS beneficiary age 14 and older must pay the biometric services fee (but not the initial TPS application fee) when filing a TPS re-registration application, the applicant may decide to wait to request an EAD, and therefore not pay the Application for Employment Authorization (Form I-765) fee, until after USCIS has approved the individual's TPS re-registration, if he or she is eligible. If you choose to do this, you would file the Application for Temporary Protected Status (Form I-821) with the fee and the Application for Employment Authorization (Form I-765) without the fee and without requesting an EAD.

Mailing Information

Mail your application for TPS to the proper address in Table 1.

Table 1—Mailing Addresses
If you: | Then mail your application to:
Would like to send your application by U.S. Postal Service | USCIS Attn: TPS Somalia, P.O. Box 6943, Chicago, IL 60680-6943.
Would like to send your application by non-U.S. Postal Service courier | USCIS Attn: TPS Somalia, 131 S. Dearborn, 3rd Floor, Chicago, IL 60603-5517.

If you were granted TPS by an Immigration Judge (IJ) or the Board of Immigration Appeals (BIA), and you wish to request an EAD, please mail your application to the address in Table 1. After you submit your EAD application and receive a USCIS receipt number, please send an email to the Service Center handling your application. The email should include the receipt number and state that you submitted a request for an EAD based on an IJ/BIA grant of TPS. This will aid in the verification of your grant of TPS and processing of your EAD application, as USCIS may not have received records of your grant of TPS by either the IJ or the BIA. To obtain additional information, including the email address of the appropriate Service Center, you may go to the USCIS TPS Web page at http://www.uscis.gov/tps.

E-Filing

You cannot electronically file your application packet. Please mail your application packet to the mailing address listed in Table 1.

Supporting Documents

The filing instructions on the Application for Temporary Protected Status (Form I-821) list all the documents needed to establish basic eligibility for TPS. You may also find information on the acceptable documentation and other requirements for applying or registering for TPS on the USCIS Web site at www.uscis.gov/tps under “Somalia.”

Do I need to submit additional supporting documentation?

If one or more of the questions listed in Part 4, Question 2 of the Application for Temporary Protected Status (Form I-821) applies to you, then you must submit an explanation on a separate sheet(s) of paper and/or additional documentation.

Employment Authorization Document (EAD)

How can I obtain information on the status of my EAD request?

To get case status information about your TPS application, including the status of a request for an EAD, you can check Case Status Online at http://www.uscis.gov, or call the USCIS National Customer Service Center at 800-375-5283 (TTY 800-767-1833). If your Application for Employment Authorization (Form I-765) has been pending for more than 90 days and you still need assistance, you may request an EAD inquiry appointment with USCIS by using the InfoPass system at https://infopass.uscis.gov. However, we strongly encourage you first to check Case Status Online or call the USCIS National Customer Service Center for assistance before making an InfoPass appointment.

Am I eligible to receive an automatic 6-month extension of my current EAD through September 17, 2017?

Provided that you currently have TPS under the designation of Somalia, this Notice automatically extends your EAD by 6 months if you:

• Are a national of Somalia (or an alien having no nationality who last habitually resided in Somalia);

• Have an EAD under the designation of TPS for Somalia with a marked expiration date of March 17, 2017, bearing the notation “A-12” or “C-19” on the face of the card under “Category.”

Although this Notice automatically extends your EAD through September 17, 2017, you must re-register timely for TPS in accordance with the procedures described in this Notice if you would like to maintain your TPS.

When hired, what documentation may I show to my employer as proof of employment authorization and identity when completing Form I-9, Employment Eligibility Verification?

You can find a list of acceptable document choices on the “Lists of Acceptable Documents” for Form I-9. You can find additional detailed information on the USCIS I-9 Central Web page at http://www.uscis.gov/I-9Central. Employers are required to verify the identity and employment authorization of all new employees by using Form I-9. Within 3 days of hire, an employee must present proof of identity and employment authorization to his or her employer.

You may present any document from List A (reflecting both your identity and employment authorization) or one document from List B (reflecting identity) together with one document from List C (reflecting employment authorization). Alternatively, you may present an acceptable receipt for List A, List B, or List C documents as described in the Form I-9 Instructions. An EAD is an acceptable document under List A. Employers may not reject a document based on a future expiration date.

If your EAD has an expiration date of March 17, 2017, and states “A-12” or “C-19” under “Category,” it has been extended automatically for 6 months by virtue of this Federal Register Notice, and you may choose to present your EAD to your employer as proof of identity and employment authorization for Form I-9 through September 17, 2017 (see the subsection titled, “How do my employer and I complete Form I-9 using an automatically extended EAD for a new job?” for further information). To minimize confusion over this extension at the time of hire, you should explain to your employer that USCIS has automatically extended your EAD through September 17, 2017. You may also show your employer a copy of this Federal Register Notice confirming the automatic extension of employment authorization through September 17, 2017. As an alternative to presenting your automatically extended EAD, you may choose to present any other acceptable document from List A, a combination of one selection from List B and one selection from List C, or a valid receipt.

What documentation may I show my employer if I am already employed but my current TPS-related EAD is set to expire?

Even though EADs with an expiration date of March 17, 2017, that state “A-12” or “C-19” under “Category” have been automatically extended for 6 months by this Federal Register Notice, your employer will need to ask you about your continued employment authorization once September 17, 2017, is reached to meet its responsibilities for Form I-9 compliance. Your employer may need to reinspect your automatically extended EAD to check the expiration date and code to record the updated expiration date on your Form I-9 if he or she did not keep a copy of this EAD when you initially presented it. However, your employer does not need a new document to reverify your employment authorization until September 17, 2017, the expiration date of the automatic extension. Instead, you and your employer must make corrections to the employment authorization expiration dates in Sections 1 and 2 of Form I-9 (see the subsection titled, “What corrections should my current employer and I make to Form I-9 if my EAD has been automatically extended?” for further information). In addition, you may also show this Federal Register Notice to your employer to explain what to do for Form I-9.

By September 17, 2017, the expiration date of the automatic extension, your employer must reverify your employment authorization. At that time, you must present any document from List A or any document from List C on Form I-9 to reverify employment authorization, or an acceptable List A or List C receipt described in the Form I-9 Instructions. Your employer should complete either Section 3 of the Form I-9 originally completed for you or, if this Section has already been completed or if the version of Form I-9 has expired (check the date in the upper right-hand corner of the form), complete Section 3 of the most current version of Form I-9. Note that employers may not specify which List A or List C document employees must present and cannot reject an acceptable receipt.

Can my employer require that I produce any other documentation to prove my status, such as proof of my Somali citizenship?

No. When completing Form I-9, including re-verifying employment authorization, employers must accept any documentation that appears on the Lists of Acceptable Documents and that reasonably appears to be genuine and that relates to you or an acceptable List A, List B, or List C receipt. Employers may not request documentation that does not appear on the Lists of Acceptable Documents. Therefore, employers may not request proof of Somali citizenship or proof of re-registration for TPS when completing Form I-9 for new hires, making corrections, or reverifying the employment authorization of current employees. If presented with EADs that have been automatically extended, employers should accept such EADs as valid List A documents so long as the EADs reasonably appear to be genuine and to relate to the employee. Refer to the Note to Employees section of this Notice for important information about your rights if your employer rejects lawful documentation, requires additional documentation, or otherwise discriminates against you based on your citizenship or immigration status, or your national origin.

What happens after September 17, 2017, for purposes of employment authorization?

After September 17, 2017, employers may no longer accept the EADs that this Federal Register Notice automatically extended. Before that time, however, USCIS will endeavor to issue new EADs to eligible TPS re-registrants who request them. These new EADs will have an expiration date of September 17, 2018 and can be presented to your employer for completion of Form I-9. Alternatively, you may choose to present any other legally acceptable document or combination of documents listed on the Lists of Acceptable Documents for Form I-9.

How do my employer and I complete Form I-9 using an automatically extended EAD for a new job?

When using an automatically extended EAD to complete Form I-9 for a new job prior to September 17, 2017, you and your employer should do the following:

1. For Section 1, you should:

a. Check “An alien authorized to work;”

b. Enter the automatically extended EAD expiration date (September 17, 2017) in the first space; and

c. Enter your Alien Number (USCIS number or A-Number) in the second space (your EAD or other document from DHS will have your USCIS number or A-Number printed on it; the USCIS number is the same as your A-Number without the A prefix).

2. For Section 2, employers should enter the:

a. Document title;

b. Issuing authority;

c. Document number; and

d. Automatically extended EAD expiration date (September 17, 2017).

By September 17, 2017, employers must reverify the employee's employment authorization in Section 3 of Form I-9.

What corrections should my current employer and I make to Form I-9 if my EAD has been automatically extended?

If you are an existing employee who presented a TPS-related EAD that was valid when you first started your job, but that EAD has now been automatically extended, your employer may need to reinspect your automatically extended EAD if your employer does not have a copy of the EAD on file, and you and your employer should correct your previously completed Form I-9 as follows:

1. For Section 1, you should:

a. Draw a line through the expiration date in the first space;

b. Write “September 17, 2017,” above the previous date;

c. Write “TPS Ext.” in the margin of Section 1; and

d. Initial and date the correction in the margin of Section 1.

2. For Section 2, employers should:

a. Draw a line through the expiration date written in Section 2;

b. Write “September 17, 2017,” above the previous date;

c. Write “TPS Ext.” in the Additional Information field in Section 2; and

d. Initial and date the correction in the Additional Information field in Section 2.

By September 17, 2017, when the automatic extension of EADs expires, employers must reverify the employee's employment authorization in Section 3.

If I am an employer enrolled in E-Verify, what do I do when I receive a “Work Authorization Documents Expiration” alert for an automatically extended EAD?

E-Verify automated the verification process for employees whose TPS status was automatically extended in a Federal Register notice. If you have an employee who is a TPS beneficiary who provided a TPS-related EAD when he or she first started working for you, you will receive a “Work Authorization Documents Expiring” case alert when the auto-extension period for this EAD is about to expire. By September 17, 2017, you must reverify employment authorization in Section 3. Employers should not use E-Verify for reverification.

Note to All Employers

Employers are reminded that the laws requiring proper employment eligibility verification and prohibiting unfair immigration-related employment practices remain in full force. This Notice does not supersede or in any way limit applicable employment verification rules and policy guidance, including those rules setting forth reverification requirements. For general questions about the employment eligibility verification process, employers may call USCIS at 888-464-4218 (TTY 877-875-6028) or email USCIS at I-9Central@dhs.gov. Calls and emails are accepted in English and many other languages. For questions about avoiding discrimination during the employment eligibility verification (Form I-9 and E-Verify) process, employers may also call the U.S. Department of Justice, Office of Special Counsel for Immigration-Related Unfair Employment Practices (OSC) Employer Hotline, at 800-255-8155 (TTY 800-237-2515), which offers language interpretation in numerous languages, or email OSC at osccrt@usdoj.gov.

Note to Employees

For general questions about the employment eligibility verification process, employees may call USCIS at 888-897-7781 (TTY 877-875-6028) or email at I-9Central@dhs.gov. Calls are accepted in English and many other languages. Employees or applicants may also call the OSC Worker Information Hotline at 800-255-7688 (TTY 800-237-2515) for information regarding employment discrimination based upon citizenship status, immigration status, or national origin, including information regarding discrimination related to Form I-9 and E-Verify. The OSC Worker Information Hotline provides language interpretation in numerous languages.

To comply with the law, employers must accept any document or combination of documents from the Lists of Acceptable Documents for Form I-9 if the documentation reasonably appears to be genuine and to relate to the employee, or an acceptable List A, List B, or List C receipt described in the Form I-9 Instructions. Employers may not require extra or additional documentation beyond what is required for Form I-9 completion. Further, employers participating in E-Verify who receive an E-Verify case result of “Tentative Nonconfirmation” (TNC) must promptly and privately inform employees of the TNC and give such employees an opportunity to contest the TNC. A TNC case result means that the information entered into E-Verify from Form I-9 differs from Federal or state government records.

Employers may not terminate, suspend, delay training, withhold pay, lower pay, or take any adverse action against an employee based on the employee's decision to contest a TNC or because the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). An employee who believes he or she was discriminated against by an employer in the E-Verify process based on citizenship or immigration status, or based on national origin, may contact OSC's Worker Information Hotline at 800-255-7688 (TTY 800-237-2515). Additional information about proper nondiscriminatory Form I-9 and E-Verify procedures is available on the OSC Web site at http://www.justice.gov/crt/about/osc/ and the USCIS Web site at http://www.dhs.gov/E-verify.

Note Regarding Federal, State, and Local Government Agencies (Such as Departments of Motor Vehicles)

While Federal Government agencies must follow the guidelines laid out by the Federal Government, state, and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples are:

(1) Your unexpired EAD that has been automatically extended or your EAD that has not expired;

(2) A copy of this Federal Register Notice if your EAD is automatically extended under this Notice;

(3) A copy of your Application for Temporary Protected Status Notice of Action (Form I-797) for this re-registration;

(4) A copy of your past or current Application for Temporary Protected Status Notice of Action (Form I-797), if you received one from USCIS; or

(5) If there is an automatic extension of work authorization, information from the USCIS TPS Web site that provides information about the automatic extension.

Check with the government agency regarding which document(s) the agency will accept. You may also provide the agency with a copy of this Federal Register Notice.

Some benefit-granting agencies use the USCIS Systematic Alien Verification for Entitlements Program (SAVE) to confirm the current immigration status of applicants for public benefits. In most cases, SAVE provides an automated electronic response to benefit granting agencies within seconds but occasionally verification can be delayed. You can check the status of your SAVE verification by using CaseCheck at the following link: https://save.uscis.gov/casecheck/, then click the “Check Your Case” button. CaseCheck is a free and fast service that lets you follow the progress of your SAVE verification using your date of birth and one immigration identifier number. If a benefit-granting agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found at the SAVE Web site at http://www.uscis.gov/save, then by choosing “For Benefit Applicants” from the menu on the left and selecting “Questions about your Records?”

[FR Doc. 2016-31861 Filed 1-13-17; 8:45 am]

BILLING CODE 9111-97-P